INTERNATIONAL TRADE COMMISSION

[Investigation No. 731-TA-1059 (Second Review)]

Hand Trucks and Certain Parts Thereof From China

Determination

On the basis of the record ¹ developed in the subject five-year review, the United States International Trade Commission (“Commission”) determines, pursuant to the Tariff Act of 1930, that revocation of the antidumping duty order on hand trucks and certain parts thereof from China would be likely to lead to continuation or recurrence of material injury to an industry in the United States within a reasonably foreseeable time.

¹ The record is defined in section 207.2(f) of the Commission's Rules of Practice and Procedure (19 CFR 207.2(f)).

Background

The Commission, pursuant to section 751(c) of the Tariff Act of 1930 (19 U.S.C. 1675(c)), instituted this review on March 2, 2015 (80 FR 11226) and determined on June 5, 2015 that it would conduct an expedited review (80 FR 37661, July 1, 2015).

The Commission completed and filed its determination in this review on July 30, 2015. The views of the Commission are contained in USITC Publication 4546 (July 2015), entitled Hand Trucks and Certain Parts Thereof from China: Investigation No. 731-TA-1059 (Second Review).

By order of the Commission.
Issued: July 30, 2015.
Lisa R. Barton,
Secretary to the Commission.

[FR Doc. 2015-19080 Filed 8-4-15; 8:45 am]

BILLING CODE 7020-02-P